DEPARTMENT OF COMMERCE

National Oceanic and Atmospheric Administration

[RTID 0648-XE311]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a meeting of its Law Enforcement Technical Committee (LETC), in conjunction with the Gulf States Marine Fisheries Commission's (GSMFC) Law Enforcement Committee (LEC).

DATES: The meeting will convene on Wednesday, October 16, 2024; beginning at 7:30 a.m. until 12 p.m., CDT. The Committees will be in a closed session from 7:30 a.m. until 8:15 a.m. CDT.

ADDRESSES: The meeting will be held at The Lodge at Gulf State Park, located at 21196 E Beach Boulevard, Gulf Shores, AL 36542; (251) 540-4000. Please visit the Gulf Council website (www.gulfcouncil.org) for agenda and meeting materials information.

Council address: Gulf of Mexico Fishery Management Council, 4107 W Spruce Street, Suite 200, Tampa, FL 33607; telephone: (813) 348-1630.

FOR FURTHER INFORMATION CONTACT: Dr. Max Birdsong, Social Scientist, Gulf of Mexico Fishery Management Council; max.birdsong@gulfcouncil.org, telephone: (813) 348-1630, and Mr. Steve VanderKooy, Inter-jurisdictional Fisheries (IJF) Coordinator, Gulf States Marine Fisheries Commission; svanderkooy@gsmfc.org, telephone: (228) 875-5912.

SUPPLEMENTARY INFORMATION: The following items of discussion are on the agenda, though agenda items may be addressed out of order and any changes will be noted on the Council's website when possible.

Joint Gulf Council's Law Enforcement Technical Committee and Gulf States Marine Fisheries Commission's Law Enforcement Committee Meeting Agenda

Wednesday, October 16, 2024; Beginning at 8:30 a.m.-12 p.m., CDT

The joint meeting will begin in a CLOSED SESSION from 7:30 a.m.-8:15 a.m., CDT with introductions, case work discussions and any other business.

General session will begin at approximately 8:30 a.m., CDT. with introductions and adoption of agenda, and approval of minutes from the Joint LEC/LETC meeting from October 2023 and election of Joint Committee Chair and Vice Chair.

The Gulf Council LETC will hold a review and discuss the Federal Charter Vessel ID Marking Requirements and 20-Fathom Recreational Seasonal Closure for Shallow-water Grouper.

The GSMFC LEC will review the IJF Program Activity for Gray (Mangrove) Snapper Profile Status, Black Drum Profile and Commission Pubs.

The committee will present the State Report Highlights from Florida, Alabama, Mississippi, Louisiana, Texas, U.S. Coast Guard (USCG, NOAA Office of Law Enforcement (OLE), and U.S. Fish and Wildlife Service (USFWS); and will discuss any Other Business items.

—Meeting Adjourns

The Agenda is subject to change, and the latest version along with other meeting materials will be posted on www.gulfcouncil.org.

The LETC consists of principal law enforcement officers in each of the Gulf States, as well as the NOAA OLE, USFWS, the USCG, and the NOAA Office of General Counsel for Law Enforcement.

Although other non-emergency issues not on the agenda may come before this group for discussion, in accordance with the Magnuson-Stevens Fishery Conservation and Management Act, those issues may not be the subject of formal action during this meeting. Actions will be restricted to those issues specifically identified in the agenda and any issues arising after publication of this notice that require emergency action under Section 305(c) of the Magnuson-Stevens Fishery Conservation and Management Act, provided the public has been notified of the Council's intent to take action to address the emergency.

Authority: 16 U.S.C. 1801 et seq.

Dated: September 23, 2024.
Rey Israel Marquez,
Acting Deputy Director, Office of Sustainable Fisheries, National Marine Fisheries Service.

[FR Doc. 2024-22104 Filed 9-25-24; 8:45 am]

BILLING CODE 3510-22-P